DEPARTMENT OF TRANSPORTATION

Office of the Secretary

Agency Information Collection Activity Under OMB Review; Request for Extension Without Change of Previously Approved Information Collection

AGENCY: Office of the Secretary, DOT.

ACTION: Notice and request for comments.

SUMMARY: In accordance with the Paperwork Reduction Act of 1995 (44 U.S.C. chapter 35, as amended) this notice announces the Department of Transportation's (DOT) intention to request extension without change, of a previously approved information collection.

DATES: Comments on this notice must be received by November 19, 2002.

ADDRESSES: To ensure that you do not duplicate your docket submissions, please submit them by only one of the following means:

(1) By mail to the Docket Management Facility (SVC-124), U.S. Department of Transportation, Room PL-401, 400 Seventh Street, SW., Washington, DC 20590-0001. [It is important to note that because of current security procedures affecting the U.S. Mail, other means (e.g., FedEx, UPS) may be faster];

(2) By delivery to room PL-401 on the Plaza Level of the Nassif Building, 400 Seventh Street, SW., Washington, DC, between 9 a.m. and 5 p.m., Monday through Friday, except Federal holidays. The telephone number is 202-366-9329;

(3) By fax to the Docket Management Facility at 202-493-2251; or

(4) By electronic means through the Web site for the Docket Management System at: http://dms.dot.gov.

The Docket Management Facility maintains the public docket for this regulation. Comments to the docket will be available for inspection or copying at room PL-401 on the Plaza Level of the Nassif Building, 400 Seventh Street, SW., Washington, DC, between 9 a.m. and 5 p.m., Monday through Friday, except Federal holidays. The public may also review docketed comments electronically at: http://dms.dot.gov.

FOR FURTHER INFORMATION CONTACT: Ms. Torlanda Archer or Mr. Charles McGuire, Office of the Secretary, Office of Aviation Analysis, X-57, Department of Transportation, 400 Seventh Street, SW., Washington, DC 20590, (202) 366-1037.

SUPPLEMENTARY INFORMATION: Title: Aviation Charter Rules.

OMB Control Number: 2106-0005.

Expiration Date: December 31, 2002.

Type of Request: Extension without change, of a previously approved information collection.

Abstract: In 14 CFR part 380 (adopted 1979) of its Special Regulations, the Department established the terms and conditions governing the furnishing of Public Charters in air transportation by direct air carriers and Public Charter operators. Public Charter operators arrange transportation for groups of persons on aircraft chartered from direct air carriers. This arrangement is less expensive for the travelers than individually buying a ticket. Further, the charter operator books hotel rooms, tours, etc., at the destination for the convenience of the traveler. Part 380 exempts charter operators from certain provisions of the U.S. Code in order that they may provide this service.

A primary goal of part 380 is to seek protection for the consumer. Accordingly, the rule stipulates that the charter operator must file evidence (a prospectus) with the Department for each charter program certifying that it has entered into a binding contract with a direct air carrier to provide air transportation and that it has also entered into agreements with Department-approved financial institutions for the protection of charter participants' funds. The prospectus must be approved by the Department prior to the operator's advertising, selling or operating the charter. The forms (OST Forms 4532, 4533, 4534 and 4535) that comprise the operator's filing are the information collections at issue here.

On May 22, 1998 the Department of Transportation published a Final Rule amending its charter air transportation regulations to update the rules.

The collection involved here under 14 CFR part 380 requests general information about the charter operator and direct air carrier that will provide a Public Charter and requires each to certify that it has contracted with the other to provide the transportation. The routing, charter price and tour itinerary of the proposed charter are also identified. The collection also requires the charter operator, direct air carrier and financial institution(s) involved to certify that proper financial instruments are in place or other arrangements have been made to protect the charter participants' funds and that all parties will abide by the Department's Public Charter regulations.

Respondents: Public Charter operators.

Estimated Number of Respondents: 316.

Average Annual Burden per respondents: 4.25 hours.

Estimated Total Burden on Respondents: 1,343 hours.

The information collection is available for inspection at the Special Authorities Division (X-57), Office of Aviation Analysis, DOT, at the address above. Copies of 14 CFR part 380 can be obtained from Ms. Torlanda Archer at the address and telephone number shown above.

Comments Are Invited On: (a) Whether the continued collection of information is necessary for the proper performance of the functions of the Department, including whether the information will have practical utility; (b) the accuracy of the Department's estimate of the burden of the current information collection; (c) ways to enhance the quality, utility and clarity of the information being collected; and (d) ways to minimize the burden of the collection of information on respondents, including the use of automated collection techniques or other forms of information technology.

All responses to this notice will be summarized and included in the request for OMB approval. All comments will also become a matter of public record.

Issued in Washington, DC, on September 12, 2002.
Randall D. Bennett,
Director, Office of Aviation Analysis.

[FR Doc. 02-23917 Filed 9-19-02; 8:45 am]

BILLING CODE 4910-62-P